DEPARTMENT OF LABOR

Office of the Secretary

Bureau of International Labor Affairs; Notice of Publication of 2010 Update to the Department of Labor's List of Goods From Countries Produced by Child Labor or Forced Labor

AGENCY: Bureau of International Labor Affairs, Department of Labor.

ACTION: Announcement of Public Availability of updated list of goods.

SUMMARY: This notice announces the publication of an updated list of goods—along with countries of origin—that the Bureau of International Labor Affairs (“ILAB”) has reason to believe are produced by child labor or forced labor in violation of international standards (“List”). ILAB is required to develop and make available to the public the List pursuant to the Trafficking Victims Protection Reauthorization Act of 2005 (“TVPRA”).

FOR FURTHER INFORMATION CONTACT: Director, Office of Child Labor, Forced Labor, and Human Trafficking, Bureau of International Labor Affairs, U.S. Department of Labor at (202) 693-4843 (this is not a toll-free number).

SUPPLEMENTARY INFORMATION: ILAB's Office of Child Labor, Forced Labor, and Human Trafficking (OCFT) carries out the mandates of section 105(b)(1) of the TVPRA, Public Law 109-164. For complete information on OCFT's TVPRA activities, please visit the Web site listed below. Previous Federal Register notices issued on this subject include: Notice of Proposed Procedural Guidelines for the Development and Maintenance of the List of Goods From Countries Pursuant to the Trafficking Victims Protection Reauthorization Act of 2005 (72 FR 55808, Oct. 1, 2007); Notice of Procedural Guidelines for the Development and Maintenance of the List of Goods from Countries Produced by Child Labor or Forced Labor; Request for Information (72 FR 73374, Dec. 27, 2007); Notice of Public Hearing to Collect Information to Assist in the Development of the List of Goods From Countries Produced by Child Labor or Forced Labor (73 FR 21985, Apr. 23, 2008); and Notice of Publication of The Department of Labor's List of Goods from Countries Produced by Child Labor or Forced Labor (74 FR 46620, Sept. 10, 2009).

ILAB published the first List of Goods Produced by Child Labor or Forced Labor on Sept. 10, 2009. That List included 122 goods from 58 countries, based on research on 77 countries. ILAB now announces the publication of an updated List, reflecting research on 39 additional countries as well as review of information submitted to ILAB pursuant to its TVPRA procedural guidelines. This update adds 6 new goods and 12 new countries to the List. A full report, including the updated List and a discussion of the List's context, scope, methodology, and limitations, as well as Frequently Asked Questions and a bibliography of sources, are available on the DOL Web site at: http://www.dol.gov/ilab/programs/ocft/tvpra.htm.

Signed at Washington, DC, this 6th day of December, 2010.
Sandra Polaski,
Deputy Undersecretary for International Affairs.

[FR Doc. 2010-31150 Filed 12-15-10; 8:45 am]

BILLING CODE 4510-28-P